DEPARTMENT OF TRANSPORTATION

Office of the Secretary

[Docket No. OST-95-246]

North American Free Trade Agreement's Land Transportation Standards Subcommittee and Transportation Consultative Group: Annual Plenary Session

AGENCY: Office of the Secretary, DOT.

ACTION: Notice.

SUMMARY: This notice announces the eighth annual plenary session of the North American Free Trade Agreement's (NAFTA) Land Transportation Standards Subcommittee (LTSS) and the Transportation Consultative Group (TCG) and other related meetings; and invites representatives of non-governmental entities with an interest in land transportation issues to participate in these proceedings and to attend a briefing at a later date. With the exceptions noted below, only U.S., Canadian, and Mexican government officials may attend the plenary and working group meetings.

Background

The Land Transportation Standards Subcommittee (LTSS) was established by the North American Free Trade Agreement's (NAFTA) Committee on Standards-Related Measures to examine the land transportation regulatory regimes in the United States, Canada, and Mexico, and to seek to make certain standards more compatible. The Transportation Consultative Group (TCG) was formed by the three countries' departments of transportation to address non-standards-related issues that affect cross-border movements among the countries, but that are not included in the NAFTA's LTSS work program (Annex 913.5.a-1).

Meetings and Deadlines

The eighth annual LTSS/TCG plenary session will be held from October 15 to 17, 2001, at the Chateau Laurier Hotel, Ottawa, Ontario, Canada. The following LTSS working groups are expected to meet during the same week and at the same location: (1) Compliance and Driver and Vehicle Standards; (2) Vehicle Weights and Dimensions; and (3) Hazardous Materials Transportation Standards. The following TCG working groups are expected to meet: (1) Cross-Border Operations and Facilitation; (2) Rail Safety and Operational Issues; (3) Automated Data Exchange; (4) Science and Technology; and (5) Maritime and Ports Policy. In addition, the occasion of the LTSS plenary session will also be used to convene bilateral meetings among the three parties to discuss a range of transportation issues.

During the plenary session, from 2 p.m. to 5:30 p.m. on October 15, 2001, representatives of the truck, bus, and rail industries, transportation labor unions, brokers and shippers, chemical manufacturers, insurance industry, public safety advocates, and other non-governmental organizations (NGO) who have notified us of their interest to attend by October 1, 2001, will have an opportunity to meet individually with the heads of the U.S., Canadian, and Mexican delegations. This is an opportunity for interested parties to voice their concerns, provide technical information, and offer suggestions relevant to achieving greater standards compatibility and improving cross-border trade. While written statements of any length may be submitted to the delegation heads, oral presentations will be limited to 10 minutes per presenter. After October 1, written statements may be submitted for the record, and requests to present oral comments at the meeting with the delegation heads will be accommodated only on a time-available basis.

The same interested parties also will have the opportunity to meet with the individual working groups for the purpose of making more technical presentations oriented specifically to the subjects addressed by each group. Working group sessions following these NGO presentations will be closed to all but government officials. The Working Group meeting schedule is tentatively set as follows:

Monday, October 15, 2001

10:00-11:45 a.m.: LTSS working groups on Compliance and Driver and Vehicle Standards; Vehicle Weights and Dimensions; and Hazardous Materials Transportation Standards; TCG working groups on Cross-Border Operations and Facilitation; Automated Data Exchange; and Maritime and Port Policy.

2:00-5:30 p.m.: Same working groups as morning session, except TCG Automated Data Exchange group will not meet; TCG working group on Science and Technology also will meet at this time. The working group addressing Rail Safety and Operational Issues may also meet at this time.

Tuesday, October 16, 2001

9:00 a.m.-12:15 p.m.: LTSS working groups on Compliance and Driver and Vehicle Standards; and Vehicle Weights and Dimensions; TCG working group on Cross-Border Operations and Facilitation.

2:00-6:00 p.m.: LTSS working group on Hazardous Materials Transportation; TCG working groups on Automated Data Exchange; and Science and Technology.

To make a presentation to a specific working group interested parties should directly contact the U.S. working group chair for that group, indicate the nature of the presentation to be made, and arrange a specific time for the presentation. Times will be subject to coordination among the three working group co-chairs from the United States, Canada, and Mexico. U.S. co-chairs for the LTSS and TCG working groups are as follows:

LTSS

Compliance and Driver and Vehicle Standards—Tom Kozlowski (202-366-4049)

Vehicle Weights and Dimensions—James March (202-366-9237)

Hazardous Materials Transportation Standards—Bob Richard (202-366-0586)

TCG

Cross-Border Operations and Facilitation—Maria Lameiro (202-366-2892)

Rail Safety and Operational Issues—Jane Bachner (202-493-6405)

Automated Data Exchange—Tom Kozlowski (202-366-4049)

Science and Technology—Rita Freeman-Kelly (202-366-5443)

Maritime and Ports Policy—Gregory Hall (202-366-5773)

Hotel reservations may be arranged with the Fairmont Chateau Laurier by telephoning 800-441-1414 or 613-241-1414. The hotel can be reached by fax at 613-562-7031 or by email at clh.reservations@fairmont.com. Reservations should be made no later than September 20, 2001. Due to a very busy conference period in Ottawa during the month of October, the hotel cannot hold rooms at conference rates beyond September 20, 2001. When making reservations, callers must identify the conference (NAFTA LTSS Plenary) in order to obtain the special rates for conference attendees. A credit card is required to guarantee payment for all rooms.

A briefing to report on the outcome of the Ottawa meetings will be conducted at DOT at the address below, on November 15, 2001, from 10:00 a.m. to noon in room 10234. Interested parties may notify DOT of their interest to attend this briefing by calling (202) 366-2892 by November 1.

SUPPLEMENTARY INFORMATION: LTSS-related documents, including past working group reports and statements received by DOT from industry associations, transportation labor unions, public safety advocates, and others are available for review in Docket No. OST-95-246, at the address below, Room PL-401, between 9:00 a.m. and 5:00 p.m., e.s.t., Monday through Friday, except national holidays. The Docket, which is updated periodically, may also be accessed electronically at http://dms.dot.gov.

Address and Phone Numbers

Individuals and organizations interested in participating in the LTSS and TCG sessions must send notice of their interest and copies of their presentations by October 1 to Allen Wiener, U.S. Department of Transportation, OST/X-20, Room 10300, 400 Seventh Street, SW., Washington, DC 20590. Respondents may also send information by fax at (202) 366-7417 or email to allen.wiener@ost.dot.gov. For additional information, call (202) 366-2892.

Dated: September 5, 2001.
Bernestine Allen,
Director, Office of International Transportation and Trade.
Louise M. Pearson,
Alternate Certifying Officer.

[FR Doc. 01-22709 Filed 9-10-01; 8:45 am]

BILLING CODE 4910-62-P